DEPARTMENT OF AGRICULTURE

Grain Inspection, Packers and Stockyards Administration

Amendment to Certification of Nebraska's Central Filing System

AGENCY: Grain Inspection, Packers and Stockyards Administration, USDA.

ACTION: Notice.

SUMMARY: In response to a request from Nebraska's Secretary of State we are approving amendments to the debtor identification and signature requirements of the certified central filing system for Nebraska to permit the conversion of all debtor social security and taxpayer identification numbers into approved unique identifiers. The proposed specific procedure whereby Nebraska will automatically convert social security numbers and taxpayer identification numbers into ten number unique identifiers has been reviewed and determined to permit the numerical searching of master lists while providing protection against identity theft.

DATES: Effective Date: October 23, 2013.

SUPPLEMENTARY INFORMATION: The Grain Inspection, Packers and Stockyards Administration (GIPSA) administers the Clear Title program for the Secretary of Agriculture. The Clear Title program is authorized by Section 1324 of the Food Security Act of 1985, which requires that States implementing central filing systems for notification of liens on farm products have such systems certified by the Secretary.

A listing of the States with certified central filing systems is available through the Internet on the GIPSA Web site (http://www.gipsa.usda.gov). Farm products covered by a State's central filing system are also identified through the GIPSA Web site. The Nebraska central filing system covers specified farm products.

We originally certified the central filing system for Nebraska on December 19, 1986. On August 30, 2012, John A. Gale, Nebraska's Secretary of State, requested the certification be amended to incorporate the use of an approved unique identifier other than a Social Security Number or Tax Payer Identification Number, in accordance with the 2004 amendments to Section 1324 of the Food Security Act.

This notice announces our approval of the amended certification for Nebraska's central filing system. Details of the specific procedures by which Nebraska will create approved unique identifiers are being provided by GIPSA to the Secretaries of State of other states with certified central filing systems. The statewide central filing system of Nebraska is certified for all specific farm productions produced in the state. Examples of farm productions and possible entries for lien identification include:

Apples, Artichokes, Asparagus, Barley, Bees, Buffalo, Bull semen, Cantaloupe, Carrots, Cattle and calves, Chickens, Corn, Cucumbers, Dry beans, Eggs, Embryos/Genetic Products, Emu, Fish, Flax Seed, Grapes, Hay, Hogs, Honey, Honey Dew Melon, Horses, Llamas, Milk, Muskmelon, Oats, Onions, Ostrich, Popcorn, Potatoes, Pumpkins, Raspberries, Rye, Seed crops, Sheep & Lambs, Silage, Sorghum Grain, Soybeans, Squash, Strawberries, Sugar Beets, Sunflower Seeds, Sweet Corn, Tomatoes, Trees, Triticale, Turkeys, Vetch, Walnuts, Watermelon, Wheat and Wool.

Authority: 7 U.S.C. 1631, 7 CFR 2.22(a)(3)(v) and 2.81(a)(5), and 9 CFR 205.101(e).

Larry Mitchell,
Administrator, Grain Inspection, Packers and Stockyards Administration.

[FR Doc. 2013-24737 Filed 10-22-13; 8:45 am]

BILLING CODE 3410-KD-P